DEPARTMENT OF HEALTH AND HUMAN SERVICES

Substance Abuse and Mental Health Services Administration

Current List of Laboratories Which Meet Minimum Standards To Engage in Urine Drug Testing for Federal Agencies

AGENCY: Substance Abuse and Mental Health Services Administration, HHS.

ACTION: Notice.

SUMMARY: The Department of Health and Human Services notifies Federal agencies of the laboratories currently certified to meet standards of Subpart C of Mandatory Guidelines for Federal Workplace Drug Testing Programs (59 FR 29916, 29925). A notice listing all currently certified laboratories is published in the Federal Register during the first week of each month. If any laboratory's certification is suspended or revoked, the laboratory will be omitted from subsequent lists until such time as it is restored to full certification under the Guidelines.

If any laboratory has withdrawn from the National Laboratory Certification Program during the past month, it will be listed at the end, and will be omitted from the monthly listing thereafter.

This notice is also available on the internet at the following Web sites: http://workplace.samhsa.gov and http://www.drugfreeworkplace.gov.

FOR FURTHER INFORMATION CONTACT: Mrs. Giselle Hersh or Dr. Walter Vogl, Division of Workplace Programs, 5600 Fishers Lane, Rockwall 2 Building, Room 815, Rockville, Maryland 20857; Tel.: (301) 443-6014, Fax: (301) 443-3031.

SUPPLEMENTARY INFORMATION: Mandatory Guidelines for Federal Workplace Drug Testing were developed in accordance with Executive Order 12564 and section 503 of Public Law 100-71. Subpart C of the Guidelines, “Certification of Laboratories Engaged in Urine Drug Testing for Federal Agencies,” sets strict standards which laboratories must meet in order to conduct urine drug testing for Federal agencies. To become certified an applicant laboratory must undergo three rounds of performance testing plus an on-site inspection.

To maintain that certification a laboratory must participate in a quarterly performance testing program plus periodic, on-site inspections.

Laboratories which claim to be in the applicant stage of certification are not to be considered as meeting the minimum requirements expressed in the HHS Guidelines. A laboratory must have its letter of certification from SAMHSA, HHS (formerly: HHS/NIDA) which attests that it has met minimum standards.

In accordance with subpart C of the Guidelines, the following laboratories meet the minimum standards set forth in the Guidelines:

ACL Laboratories

8901 W. Lincoln Ave.

West Allis, WI 53227

414-328-7840/800-877-7016

(Formerly: Bayshore Clinical Laboratory)

ACM Medical Laboratory, Inc.

160 Elmgrove Park

Rochester, NY 14624

716-429-2264

Advanced Toxicology Network

3560 Air Center Cove, Suite 101

Memphis, TN 38118

901-794-5770/888-290-1150

Aegis Analytical Laboratories, Inc.

345 Hill Ave.

Nashville, TN 37210

615-255-2400

Alliance Laboratory Services

3200 Burnet Ave.

Cincinnati, OH 45229

513-585-9000

(Formerly: Jewish Hospital of Cincinnati, Inc.)

American Medical Laboratories, Inc.

14225 Newbrook Dr.

Chantilly, VA 20151

703-802-6900

Associated Pathologists Laboratories, Inc.

4230 South Burnham Ave., Suite 250

Las Vegas, NV 89119-5412

702-733-7866/800-433-2750

Baptist Medical Center—Toxicology Laboratory

9601 I-630, Exit 7

Little Rock, AR 72205-7299

501-202-2783

(Formerly: Forensic Toxicology Laboratory Baptist Medical Center)

Clinical Laboratory Partners, LLC

129 East Cedar St.

Newington, CT 06111

860-696-8115

(Formerly: Hartford Hospital Toxicology Laboratory)

Clinical Reference Lab

8433 Quivira Rd.

Lenexa, KS 66215-2802

800-445-6917

Cox Health Systems, Department of Toxicology

1423 North Jefferson Ave.

Springfield, MO 65802

800-876-3652/417-269-3093

(Formerly: Cox Medical Centers)

Diagnostic Services Inc., dba DSI

12700 Westlinks Drive

Fort Myers, FL 33913

941-561-8200/800-735-5416

Doctors Laboratory, Inc.

P.O. Box 2658, 2906 Julia Dr.

Valdosta, GA 31602

912-244-4468

DrugProof, Divison of Dynacare

543 South Hull St.

Montgomery, AL 36103

888-777-9497/334-241-0522

(Formerly: Alabama Reference Laboratories, Inc.)

DrugProof, Division of Dynacare/Laboratory of Pathology, LLC

1229 Madison St., Suite 500, Nordstrom Medical Tower

Seattle, WA 98104

206-386-2672/800-898-0180

(Formerly: Laboratory of Pathology of Seattle, Inc., DrugProof, Division of Laboratory of Pathology of Seattle, Inc.)

DrugScan, Inc.

P.O. Box 2969, 1119 Mearns Rd.

Warminster, PA 18974

215-674-9310

Dynacare Kasper Medical Laboratories*

14940-123 Ave.

Edmonton, Alberta

Canada T5V 1B4

780-451-3702/800-661-9876

ElSohly Laboratories, Inc.

5 Industrial Park Dr.

Oxford, MS 38655

662-236-2609

Express Analytical Labs

3405 7th Avenue, Suite 106

Marion, IA 52302

319-377-0500

Gamma-Dynacare Medical Laboratories*

A Division of the Gamma-Dynacare Laboratory Partnership

245 Pall Mall St.

London, ONT

Canada N6A 1P4

519-679-1630

General Medical Laboratories

36 South Brooks St.

Madison, WI 53715

608-267-6267

Kroll Laboratory Specialists, Inc.

1111 Newton St.

Gretna, LA 70053

504-361-8989/800-433-3823

(Formerly: Laboratory Specialists, Inc.)

LabOne, Inc.

10101 Renner Blvd.

Lenexa, KS 66219

913-888-3927/800-728-4064

(Formerly: Center for Laboratory Services, a Division of LabOne, Inc.)

Laboratory Corporation of America Holdings

7207 N. Gessner Road

Houston, TX 77040

713-856-8288/800-800-2387

Laboratory Corporation of America Holdings

69 First Ave.

Raritan, NJ 08869

908-526-2400/800-437-4986

(Formerly: Roche Biomedical Laboratories, Inc.)

Laboratory Corporation of America Holdings

1904 Alexander Drive

Research Triangle Park, NC 27709

919-572-6900/800-833-3984

(Formerly: LabCorp Occupational Testing Services, Inc., CompuChem Laboratories, Inc.;

CompuChem Laboratories, Inc., A Subsidiary of Roche Biomedical Laboratory; Roche CompuChem

Laboratories, Inc., A Member of the Roche Group)

Laboratory Corporation of America Holdings

10788 Roselle Street

San Diego, CA 92121

800-882-7272

(Formerly: Poisonlab, Inc.)

Laboratory Corporation of America Holdings

1120 Stateline Road West

Southaven, MS 38671

866-827-8042/800-233-6339

(Formerly: LabCorp Occupational Testing Services, Inc., MedExpress/National Laboratory Center)

Marshfield Laboratories

Forensic Toxicology Laboratory

1000 North Oak Ave.

Marshfield, WI 54449

715-389-3734/800-331-3734

MAXXAM Analytics Inc.*

5540 McAdam Rd.

Mississauga, ON

Canada L4Z 1P1

905-890-2555

(Formerly: NOVAMANN (Ontario) Inc.)

Medical College Hospitals Toxicology Laboratory, Department of Pathology

3000 Arlington Ave.

Toledo, OH 43699

419-383-5213

MedTox Laboratories, Inc.

402 W. County Rd. D

St. Paul, MN 55112

651-636-7466/800-832-3244

MetroLab-Legacy Laboratory Services

1225 NE 2nd Ave.

Portland, OR 97232

503-413-5295/800-950-5295

Minneapolis Veterans Affairs Medical Center

Forensic Toxicology Laboratory 1 Veterans Drive

Minneapolis, Minnesota 55417

612-725-2088

National Toxicology Laboratories, Inc. 1100 California Ave.

Bakersfield, CA 93304

661-322-4250/800-350-3515

Northwest Drug Testing, a division of NWT Inc.

1141 E. 3900 South

Salt Lake City, UT 84124

801-293-2300 / 800-322-3361

(Formerly: NWT Drug Testing, NorthWest Toxicology, Inc.)

One Source Toxicology Laboratory, Inc.

1705 Center Street

Deer Park, TX 77536

713-920-2559

(Formerly: University of Texas Medical Branch, Clinical Chemistry Division; UTMB

Pathology-Toxicology Laboratory)

Oregon Medical Laboratories

P.O. Box 972, 722 East 11th Ave.

Eugene, OR 97440-0972

541-687-2134

Pacific Toxicology Laboratories

6160 Variel Ave.

Woodland Hills, CA 91367

818-598-3110/800-328-6942

(Formerly: Centinela Hospital Airport Toxicology Laboratory

Pathology Associates Medical Laboratories

110 West Cliff Drive

Spokane, WA 99204

509-755-8991/800-541-7891x8991

PharmChem Laboratories, Inc.

4600 N. Beach

Haltom City, TX 76137

817-605-5300

(Formerly: PharmChem Laboratories, Inc., Texas Division; Harris Medical Laboratory)

Physicians Reference Laboratory

7800 West 110th St.

Overland Park, KS 66210

913-339-0372/800-821-3627

Quest Diagnostics Incorporated 3175 Presidential Dr.

Atlanta, GA 30340

770-452-1590

(Formerly: SmithKline Beecham Clinical Laboratories, SmithKline Bio-Science Laboratories)

Quest Diagnostics Incorporated

4770 Regent Blvd.

Irving, TX 75063

800-842-6152

(Moved from the Dallas location on 03/31/01; Formerly: SmithKline Beecham Clinical Laboratories, SmithKline Bio-Science Laboratories)

Quest Diagnostics Incorporated

400 Egypt Rd.

Norristown, PA 19403

610-631-4600/877-642-2216

(Formerly: SmithKline Beecham Clinical Laboratories, SmithKline Bio-Science Laboratories)

Quest Diagnostics Incorporated

506 E. State Pkwy.

Schaumburg, IL 60173

800-669-6995/847-885-2010

(Formerly: SmithKline Beecham Clinical Laboratories, International Toxicology Laboratories)

Quest Diagnostics Incorporated

7600 Tyrone Ave.

Van Nuys, CA 91405

818-989-2520/800-877-2520

(Formerly: SmithKline Beecham Clinical Laboratories)

Scientific Testing Laboratories, Inc.

463 Southlake Blvd.

Richmond, VA 23236

804-378-9130

S.E.D. Medical Laboratories

5601 Office Blvd.

Albuquerque, NM 87109

505-727-6300/800-999-5227

South Bend Medical Foundation, Inc.

530 N. Lafayette Blvd.

South Bend, IN 46601

219-234-4176

Southwest Laboratories

2727 W. Baseline Rd.

Tempe, AZ 85283

602-438-8507/800-279-0027

Sparrow Health System

Toxicology Testing Center, St. Lawrence Campus

1210 W. Saginaw

Lansing, MI 48915

517-377-0520

(Formerly: St. Lawrence Hospital & Healthcare System)

St. Anthony Hospital Toxicology Laboratory

1000 N. Lee St.

Oklahoma City, OK 73101

405-272-7052

Toxicology & Drug Monitoring Laboratory

University of Missouri Hospital & Clinics

2703 Clark Lane, Suite B, Lower Level

Columbia, MO 65202

573-882-1273

Toxicology Testing Service, Inc.

5426 N.W. 79th Ave.

Miami, FL 33166

305-593-2260

Universal Toxicology Laboratories (Florida), LLC

5361 NW 33rd Avenue

Fort Lauderdale, FL 33309

954-717-0300, 800-419-7187x419

(Formerly: Integrated Regional Laboratories, Cedars Medical Center, Department of Pathology)

Universal Toxicology Laboratories, LLC

9930 W. Highway 80

Midland, TX 79706

915-561-8851/888-953-8851

US Army Forensic Toxicology Drug Testing Laboratory

Fort Meade, Building 2490

Wilson Street

Fort George G. Meade, MD 20755-5235

301-677-7085

______

* The Standards Council of Canada (SCC) voted to end its Laboratory Accreditation Program for Substance Abuse (LAPSA) effective May 12, 1998. Laboratories certified through that program were accredited to conduct forensic urine drug testing as required by U.S. Department of Transportation (DOT) regulations. As of that date, the certification of those accredited Canadian laboratories will continue under DOT authority. The responsibility for conducting quarterly performance testing plus periodic on-site inspections of those LAPSA-accredited laboratories was transferred to the U.S. DHHS, with the DHHS' National Laboratory Certification Program (NLCP) contractor continuing to have an active role in the performance testing and laboratory inspection processes. Other Canadian laboratories wishing to be considered for the NLCP may apply directly to the NLCP contractor just as U.S. laboratories do.

Upon finding a Canadian laboratory to be qualified, the DHHS will recommend that DOT certify the laboratory (FR, 16 July 1996) as meeting the minimum standards of the “Mandatory Guidelines for Workplace Drug Testing” (59 FR, 9 June 1994, Pages 29908-29931). After receiving the DOT certification, the laboratory will be included in the monthly list of DHHS certified laboratories and participate in the NLCP certification maintenance program.

Richard Kopanda,
Executive Officer, Substance Abuse and Mental Health Services Administration.

[FR Doc. 02-10684 Filed 4-30-02; 8:45 am]

BILLING CODE 4160-20-P